NUCLEAR REGULATORY COMMISSION

Advisory Committee on the Medical Uses of Isotopes: Meeting Notice

AGENCY: U.S. Nuclear Regulatory Commission.

ACTION: Notice of meeting.

The U.S. Nuclear Regulatory Commission (NRC) will convene a meeting of the Advisory Committee on the Medical Uses of Isotopes (ACMUI) on March 30-31, 2020. A sample of agenda items to be discussed during the public session includes:

(1) A discussion on medical-related events; (2) a discussion on the ACMUI's recommendations regarding the definition of patient intervention and other actions exclusive of medical events; (3) a discussion on the U.S. Federal Drug Administration's regulatory process for drugs and devices; (4) a discussion on the overview of the NRC's Nuclear Material Events Database; (5) a discussion on the status of emerging and trending radiopharmaceuticals; and (6) a discussion on the ACMUI's recommendations on the need for an interventional radiologist representative position on the ACMUI.

The agenda is subject to change. The current agenda and any updates will be available at https://www.nrc.gov/reading-rm/doc-collections/acmui/meetings/2020.html or by emailing Ms. Kellee Jamerson at the contact information below.

Purpose: Discuss issues related to 10 CFR part 35 Medical Use of Byproduct Material.

Date and Time: March 30, 2020 from 8:30 a.m. to 2:45 p.m. and March 31, 2020 from 8:30 a.m. to 2:00 p.m. Eastern Standard Time.

Address for Public Meeting: U.S. Nuclear Regulatory Commission, Two White Flint North Building, Room T-2D30, 11545 Rockville Pike, Rockville, Maryland 20852.

Public Participation: Any member of the public who wishes to participate in the meeting in person or via phone should contact Ms. Jamerson using the information below. The meeting will also be webcast live from the NRC's Webcast Portal at https://video.nrc.gov/. Contact Information: Ms. Kellee Jamerson, email: Kellee.Jamerson@nrc.gov, telephone: (301) 415-7408.

Conduct of the Meeting

Darlene F. Metter, M.D. will chair the meeting. Dr. Metter will conduct the meeting in a manner that will facilitate the orderly conduct of business. The following procedures apply to public participation in the meeting:

1. Persons who wish to provide a written statement should submit an electronic copy to Ms. Jamerson using the contact information listed above. All submittals must be received by March 25, 2020, three business days before the meeting, and must pertain to the topics on the agenda for the meeting.

2. Questions and comments from members of the public will be permitted during the meeting, at the discretion of the ACMUI Chairman.

3. The draft transcript and meeting summary will be available on the ACMUI's website https://www.nrc.gov/reading-rm/doc-collections/acmui/meetings/2020.html on or about May 12, 2020.

4. Persons who require special services, such as those for the hearing impaired, should notify Ms. Jamerson of their planned attendance.

This meeting will be held in accordance with the Atomic Energy Act of 1954, as amended (primarily Section 161a); the Federal Advisory Committee Act (5 U.S.C. App); and the Commission's regulations in title 10 of the Code of Federal Regulations, Part 7.

Dated at Rockville, Maryland this 12th day of February, 2020.
For the U.S. Nuclear Regulatory Commission.
Russell E. Chazell,
Advisory Committee Management Officer.

[FR Doc. 2020-03177 Filed 2-18-20; 8:45 am]

BILLING CODE 7590-01-P